DEPARTMENT OF AGRICULTURE

Grain Inspection, Packers and Stockyards Administration

Designation for the Muncie, IN; Fremont, NE; Annapolis, MD; and West Lafayette, IN Areas; Corrections to Geographic Areas for Fremont and Titus

AGENCY: Grain Inspection, Packers and Stockyards Administration, USDA.

ACTION: Notice and correction.

SUMMARY: GIPSA is announcing the designation of East Indiana; Fremont Grain Inspection Department, Inc. (Fremont); Maryland Department of Agriculture (Maryland); and Titus Grain Inspection, Inc. (Titus) to provide official services under the United States Grain Standards Act (USGSA), as amended. East Indiana Grain Inspection, Inc.'s (East Indiana) geographical territory is amended to include the area previously designated to Indianapolis Grain Inspection and Weighing Service, Inc. (Indianapolis). In addition, this Notice corrects the Federal Register Notice published on December 28, 2012 concerning the opportunity for designation in the Fremont and Titus areas, which incorrectly omitted grain elevators located outside of Fremont and Titus geographical areas assigned to Fremont and Titus, respectively, and grain elevators inside of Fremont's geographical area assigned to another official agency.

DATES: Effective Date: Designations effective as of July 1, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the October 31, 2012 Federal Register Notice (77 FR 65855), GIPSA requested applications for designation to provide official services in the geographic area formally serviced by Indianapolis. Applications were due by November 30, 2012.

East Indiana and Mid-Iowa Grain Inspection, Inc. (Mid-Iowa) were the two applicants for designation to provide official services in the Indianapolis, IN area. Both applied for the entire Indianapolis, IN. geographic area.

In the January 15, 2013 Federal Register Notice (78 FR 2950), GIPSA requested comments on the two applications for designation to provide official services in the Indianapolis, IN area. Comments were due by February 14, 2013. GIPSA received one comment from a grain company that used East Indiana as a service provider. The commenter stated that advance notice was required for timely service and that East Indiana provided quick grades.

GIPSA reviewed designation criteria in section 79(f) of the USGSA (7 U.S.C. 79 (f)) to determine the applicant better able than any other applicant to provide official services. Criteria include past performance, the stability and quality of service, cooperation with GIPSA, adequacy of resources, the cost of inspection service, the comments received, the accuracy and detail of their plans, past practices, and financial impact. After a comprehensive review of the designation criteria, GIPSA determined that East Indiana is better able than any other applicant to provide official services for the Indianapolis, IN geographical area specified in the Federal Register Notice published on October 31, 2012.

In the December 28, 2012 Federal Register Notice (77 FR 76454), GIPSA requested applications for designation to provide official services in the geographic areas presently serviced by East Indiana, Fremont, Maryland, and Titus. Applications were due by January 28, 2013.

East Indiana, Fremont, Maryland, and Titus were the sole applicants for designation to provide official services in these areas. As a result, GIPSA did not ask for additional comments.

GIPSA evaluated all available information regarding the designation criteria in section 79(f) of the USGSA (7 U.S.C. 79(f)) and determined that East Indiana, Fremont, Maryland, and Titus are qualified to provide official services in the geographic area specified in the Federal Register Notice published on December 28, 2012, and as corrected herein.

Pursuant to Section 79(f)(2) of the United States Grain Standards Act, the following amended geographic area is assigned to East Indiana:

In Indiana

Bartholomew, Blackford, Brown, Delaware, Fayette, Grant (east of State Route 5 and north of State Route 18), Hamilton (south of State Route 32), Hancock, Hendricks, Henry, Jay, Johnson, Madison, Marion, Monroe, Morgan, Randolph, Rush, Shelby, Union, and Wayne Counties.

In Ohio

Darke County.

This designation action to provide official services in these specified areas is effective July 1, 2013 and terminates on June 30, 2016.

Interested persons may obtain official services by contacting these agencies at the following telephone numbers:

Official agency | Headquarters location and telephone | Designation start | Designation end
East Indiana | Muncie, IN, (765) 744-6425 | 7/1/2013 | 6/30/2016
Fremont | Fremont, NE, (402) 721-1270 | 7/1/2013 | 6/30/2016
Maryland | Annapolis, MD, (410) 841-5769 | 7/1/2013 | 6/30/2016
Titus | West Lafayette, IN, (765) 497-2202 | 7/1/2013 | 6/30/2016

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Correction

In the Federal Register Notice published on December 28, 2012 in FR Doc. 2012-76455, in the first column, the “Areas Open for Designation” “Fremont” paragraph is hereby corrected to include:

The following grain elevators are part of this geographic area assignment. In Omaha Grain Inspection Service, Inc's area, Farmers Union Cooperative Association and Krumel Grain and Storage, both located in Wahoo, Saunders County, Nebraska.

The following grain elevators are not part of this geographic area assignment and are assigned to: Hastings Grain Inspection, Inc.: Huskers Cooperative Grain Company located in Columbus, Platte County, Nebraska; Omaha Grain Inspection Service, Inc.: United Farmers Cooperative located in Rising City, Butler Country, Nebraska and United Farmers Cooperative elevator located in Shelby, Polk County, Nebraska.

Correction

In the Federal Register Notice published on December 28, 2012 in FR Doc. 2012-76455, in the second column, the “Areas Open for Designation” “Titus” paragraph is hereby corrected to include:

The following grain elevators are part of this geographic area assignment. In Champaign-Danville Grain Inspection Department, Inc.'s area: Boswell Chase Grain, Inc., Boswell, Benton County, Illinois. In Frankfort Grain Inspection, Inc.'s area: The Andersons, Delphi, Carroll County; Frick Services, Inc., Leiters Ford, Fulton County; and Cargill, Inc., Linden, Montgomery County, Indiana.

Authority: 7 U.S.C. 71-87k.

Larry Mitchell,
Administrator, Grain Inspection, Packers and Stockyards Administration.

[FR Doc. 2013-17447 Filed 7-19-13; 8:45 am]

BILLING CODE 3410-KD-P